DEPARTMENT OF THE INTERIOR

National Park Service

[NPS-WASO-NRNHL-DTS#-34224; PPWOCRADI0, PCU00RP14.R50000]

National Register of Historic Places; Notification of Pending Nominations and Related Actions

AGENCY: National Park Service, Interior.

ACTION: Notice.

SUMMARY: The National Park Service is soliciting electronic comments on the significance of properties nominated before July 9, 2022, for listing or related actions in the National Register of Historic Places.

DATES: Comments should be submitted electronically by August 2, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 9, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Polk County

Evans, John H., House, 730 Buena Vista Dr., Lake Alfred, SG100008019

GEORGIA

Muscogee County

Columbus Coca-Cola Bottling Company, 1147 6th Ave., Columbus, SG100008016

LOUISIANA

Caldwell Parish

Graves Homeplace, 281 Davis Lake Rd., Columbia vicinity, SG100008005

MICHIGAN

Wayne County

McGhee, Orsel and Minnie, House, (The Civil Rights Movement and the African American Experience in 20th Century Detroit MPS), 4626 Seebaldt St, Detroit, MP100008009

NEW YORK

Erie County

Buffalo Public School #92-PS 92, 340 Fougeron St., Buffalo, SG100008007

OHIO

Hamilton County

United Colored American Cemetery, 4732-4734 Duck Creek Rd. (at corner of 4805 Duck Creek Rd.), Cincinnati, SG100008017

Summit County

Mentzer-Sorrick Farm, 365 Center Rd., New Franklin, SG100008020

SOUTH DAKOTA

Brown County

Blanchard, William C., House, 1016 South Kline St., Aberdeen, SG100008006

VIRGINIA

New Kent County

Shuttlewood, 8830 Saint Peters Ln., New Kent vicinity, SG100008021

Roanoke Independent City

English Gardens, 2325, 2331, 2333, 2339, 2343, 2345, 2349 Memorial Ave. SW, 1208, 1218, 1222, Fauquier St. SW, 2324, 2330, 2332, 2336, 2340, 2346, 2352 Denniston Ave. SW, Roanoke, SG100008022

Staunton Independent City

Staunton Steam Laundry, 110 West Hampton, 709 Hall, and 710 Robertson Sts., Staunton, SG100008023

WISCONSIN

Dane County

Stoughton Municipal Power Plant No.1, 601 South 4th St., Stoughton, SG100008010

WYOMING

Sheridan County

Gable House, (Ranches, Farms, and Homesteads in Wyoming, 1860-1960 MPS), 142 SR Buffalo Creek Rd., Wyarno, MP100008015

In the interest of preservation, a SHORTENED comment period has been requested for the following resource:

OHIO

Stark County

Portage Street Elementary School, 239 and 301 Portage St., North Canton, SG100008013, Comment period: 3 days

A request for removal has been made for the following resources:

MICHIGAN

Monroe County

New York Central River Raisin Railroad Bridge, (City of Monroe MRA), Across River Raisin, east of Winchester St., Monroe, OT82005048

Wayne County

Fort Street-Pleasant Street and Norfolk & Western Railroad Viaduct, (Highway Bridges of Michigan MPS), Fort St. over Pleasant St. and N&W RR., Detroit, OT00000116

St. Boniface Roman Catholic Church, 2356 Vermont Ave., Detroit, OT89000487

Additional documentation has been received for the following resource:

ARKANSAS

Pulaski County

Governor's Mansion Historic District (Additional Documentation), Bounded by the Mansion grounds, 13th, Center, Gaines, and 18th Sts., Little Rock, AD78000620

Authority: Section 60.13 of 36 CFR part 60.

Dated: July 12, 2022.
Sherry A. Frear,
Chief, National Register of Historic Places/National Historic Landmarks Program.

[FR Doc. 2022-15288 Filed 7-15-22; 8:45 am]

BILLING CODE 4312-52-P